CHEMICAL SAFETY AND HAZARD INVESTIGATION BOARD

Notice of Postponement of Sunshine Act Meeting Scheduled for March 2, 2005

The March 2, 2005, public meeting of the Chemical Safety and Hazard Investigation Board (CSB) in connection with its investigation into three separate incidents at the Honeywell International Inc. plant in Baton Rouge, Louisiana in 2003, is being temporarily postponed. The public meeting was originally scheduled to begin at 10 a.m. local time on March 2, 2005, at the Holiday Inn Select, Executive Center, 4728 Constitution Avenue, Baton Rouge, LA 70808. The original Federal Register notice announcing the meeting was published on Wednesday, February 16, 2005, 70 FR 7924. The meeting will be rescheduled after new information has been reviewed.

On July 20, 2003, a release of chlorine gas from the Honeywell plant resulted in injuries to seven plant workers and issuance of a shelter-in-place advisory for residents within a half-mile radius. On July 29, 2003, a one-ton cylinder at the same plant released its contents to the atmosphere, fatally injuring a plant worker by exposure to toxic antimony pentachloride. On August 13, 2003, two workers at the plant were exposed to toxic hydrofluoric acid (HF), and one of them was hospitalized.

For more information, please contact Daniel Horowitz at the Chemical Safety and Hazard Investigation Board at (202) 261-7600, or visit the CSB Web site at: http://www.csb.gov.

Dated: February 23, 2005.
Christopher J. Kirkpatrick,
Attorney-Advisor.

[FR Doc. 05-3895 Filed 2-24-05; 10:15 am]

BILLING CODE 6350-01-P